FEDERAL COMMUNICATIONS COMMISSION

47 CFR Part 12

[PS Docket No. 14-193; PS Docket No. 13-75; FCC 14-186]

911 Governance and Accountability; Improving 911 Reliability

AGENCY: Federal Communications Commission.

ACTION: Proposed rule; extension of comment and reply comment deadlines.

SUMMARY: In this document, the Public Safety and Homeland Security Bureau (Bureau) extends the deadline for filing comments and reply comments on its 911 Governance and Accountability Notice of Proposed Rulemaking (911 Governance NPRM), which sought comment on mechanisms to ensure, in cooperation with state and local partners, that the nation's 911 governance structure keeps pace with evolving technology so that all entities providing 911 service capabilities remain accountable for reliable 911 call completion and accurate situational awareness.

DATES: The comment period for the proposed rule published January 22, 2015 (80 FR 3191) is reopened. Comments were due on or before March 23, 2015, and reply comments are due on or before April 21, 2015.

ADDRESSES: You may submit comments to the 911 Governance NPRM, identified by PS Docket Nos. 14-193 and 13-75, by any of the following methods:

• Electronic Filers: Federal Communication Commission's Electronic Comments Filing System (ECFS): http://fjallfoss.fcc.gov/ecfs2/. Follow the instructions for submitting comments.

• Paper Filers: All hand-delivered or messenger-delivered paper filings for the Commission's Secretary must be delivered to FCC Headquarters at 445 12th Street SW., Room TW-A325, Washington, DC 20554. The filing hours are 8 a.m. to 7 p.m. Eastern Time (ET). All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington, DC 20554.

• People With Disabilities: To request materials in accessible formats for people with disabilities (braille, large print, electronic files, or audio format), send an email to fcc504@fcc.gov or call the Consumer & Governmental Affairs Bureau at 202-418-0530 (voice), (202) 418-0432 (TTY).

FOR FURTHER INFORMATION CONTACT: Eric Schmidt, Attorney Advisor, Public Safety and Homeland Security Bureau, (202) 418-1214, eric.schmidt@fcc.gov.

SUPPLEMENTARY INFORMATION: This is a summary of the Bureau's Order in PS Docket Nos. 14-193 and 13-75, DA 15-299, adopted and released on March 6, 2015, and pertaining to the proposed rule published January 22, 2015 (80 FR 3191). The complete text of this document is available for public inspection and copying from 8 a.m. to 4:30 p.m. ET Monday through Thursday or from 8 a.m. to 11:30 a.m. ET on Fridays in the FCC Reference Information Center, 445 12th Street SW., Room CY-A257, Washington, DC 20554. The complete text is also available on the Commission's Web site at http://transition.fcc.gov/Daily_Releases/Daily_Business/2015/db0306/DA-15-299A1.pdf, or by using the search function on the ECFS Web page at http://www.fcc.gov/cgb/ecfs/.

Summary

The Bureau released an Order on March 6, 2015, which extends the comment and reply comment filing deadlines for the 911 Governance NPRM, 80 FR 3191, January 22, 2015. The Order responded to a joint petition by the Association for Telecommunications Industry Solutions (ATIS); the Association of Public Safety Communications Officials International (APCO); the Industry Council for Emergency Response Technologies (iCERT); the National Association of State 911 Administrators (NASNA); the National Emergency Number Association (NENA); and the United States Telecom Association (USTA) seeking an extension of the comment period. Pursuant to sections 4(i) of the Communications Act of 1934, as amended, and pursuant to the authority delegated in 47 CFR 0.191, 0.392, and 1.46, the Bureau extended the deadline for filing comments until March 23, 2015, and extends the deadline for reply comments until April 21, 2015.

Federal Communications Commission.
Marlene H. Dortch,
Secretary.

[FR Doc. 2015-07392 Filed 4-3-15; 8:45 am]

BILLING CODE 6712-01-P